NUCLEAR REGULATORY COMMISSION

[Docket No. IA-19-027-EA: ASLBP No. 20-963-01-EA-BD01]

In The Matter of Thomas B. Saunders: Establishment of Atomic Safety and Licensing Board

Pursuant to delegation by the Commission, see 37 FR 28710 (Dec. 29, 1972), and the Commission's regulations, see, e.g., 10 CFR 2.104, 2.105, 2.300, 2.309, 2.313, 2.318, 2.321, notice is hereby given that an Atomic Safety and Licensing Board (Board) is being established to preside over the following proceeding:

Thomas B. Saunders

(Confirmatory Order)

This Board is being established pursuant to a hearing request submitted by Leonard Sparks in response to Confirmatory Order IA-19-027, “In the Matter of Thomas B. Saunders,” issued on October 21, 2019 by the NRC Office of Enforcement, and published in the Federal Register. See 84 FR 57778 (Oct. 28, 2019).

The Board is comprised of the following Administrative Judges:

E. Roy Hawkens, Chairman, Atomic Safety and Licensing Board Panel, U.S. Nuclear Regulatory Commission, Washington, DC 20555-0001

Michael M. Gibson, Atomic Safety and Licensing Board Panel, U.S. Nuclear Regulatory Commission, Washington, DC 20555-0001

Dr. Sue H. Abreu, Atomic Safety and Licensing Board Panel, U.S. Nuclear Regulatory Commission, Washington, DC 20555-0001

All correspondence, documents, and other materials shall be filed in accordance with the NRC E-Filing rule. See 10 CFR 2.302.

Rockville, Maryland.
Dated: December 23, 2019.
Edward R. Hawkens,
Chief Administrative Judge, Atomic Safety and Licensing Board Panel.

[FR Doc. 2019-28228 Filed 12-30-19; 8:45 am]

BILLING CODE 7590-01-P>